DEPARTMENT OF HOMELAND SECURITY

Federal Emergency Management Agency

[Docket ID FEMA-2015-0001]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Roy E. Wright,
Deputy Associate Administrator for Mitigation, Department of Homeland Security, Federal Emergency Management Agency.

State and county | Location and case No. | Chief executive officer of community | Community map repository | Effective date of modification | Community No.
Arizona:
Maricopa (FEMA Docket No.: B-1464) | City of Phoenix (14-09-3896P) | The Honorable Greg Stanton, Mayor, City of Phoenix, 200 West Washington Street, 11th Floor, Phoenix, AZ 85003 | Street Transportation Department, 200 West Washington Street, 5th Floor, Phoenix, AZ 85003 | Mar. 16, 2015 | 040051
California:
Monterey (FEMA Docket No.: B-1464) | City of Seaside (14-09-3525P) | The Honorable Ralph Rubio, Mayor, City of Seaside, 440 Harcourt Avenue, Seaside, CA 93955 | Public Works Division, 440 Harcourt Avenue, Seaside, CA 93955 | Mar. 23, 2015 | 060203
Monterey (FEMA Docket No.: B-1464) | Unincorporated areas of Monterey County, (14-09-3525P) | The Honorable Louis R. Calcagno, Chairman, Monterey County Board of Supervisors, P.O. Box 1728, Salinas, CA 93902 | Monterey County Water Resources Department, 893 Blanco Circle, Salinas, CA 93901 | Mar. 23, 2015 | 060195
Riverside (FEMA Docket No.: B-1464) | City of Corona (14-09-3245P) | The Honorable Karen Spiegel, Mayor, City of Corona, 400 South Vicentia Avenue, Corona, CA 92882 | City Hall, 400 South Vicentia Avenue, Corona, CA 92882 | Mar. 12, 2015 | 060250
Colorado:
Adams (FEMA Docket No.: B-1464) | City of Thornton, (14-08-1198P) | The Honorable Heidi Williams, Mayor, City of Thornton, 9500 Civic Center Drive, Thornton, CO 80229 | City Hall, 9500 Civic Center Drive, Thornton, CO 80229 | Mar. 20, 2015 | 080007
Adams (FEMA Docket No.: B-1464) | Unincorporated areas of Adams County, (14-08-1198P) | The Honorable Charles Tedesco, Chairman, Adams County Board of Commissioners, 4430 South Adams County Parkway, 5th Floor, Suite C5000A, Brighton, CO 80601 | Adams County Emergency Management Department, 4430 South Adams County Parkway, Brighton, CO 80601 | Mar. 20, 2015 | 080001
El Paso (FEMA Docket No.: B-1468) | Unincorporated areas of El Paso County, (14-08-1121P) | The Honorable Dennis Hisey, Chairman, El Paso County Board of Commissioners, 200 South Cascade Avenue, Suite 100, Colorado Springs, CO 80903 | El Paso County Regional Building Department, 101 West Costilla Street, Colorado Springs, CO 80903 | Mar. 24, 2015 | 080059
Jefferson (FEMA Docket No.: B-1464) | City of Arvada, (14-08-1331P) | The Honorable Marc Williams, Mayor, City of Arvada, 8101 Ralston Road, Arvada, CO 80001 | Engineering Division, 8101 Ralston Road, Arvada, CO 80001 | Mar. 27, 2015 | 085072
Jefferson (FEMA Docket No.: B-1464) | Unincorporated areas of Jefferson County, (14-08-1331P) | The Honorable Faye Griffin, Chair, Jefferson County Board of Commissioners, 100 Jefferson County Parkway, Golden, CO 80419 | Jefferson County Department of Planning and Zoning, 100 Jefferson County Parkway, Golden, CO 80419 | Mar. 27, 2015 | 080087
Teller (FEMA Docket No.: B-1464) | City of Woodland Park, (14-08-0157P) | The Honorable Neil Levy, Mayor, City of Woodland Park, P.O. Box 9007, Woodland Park, CO 80866 | City Hall, 220 West South Avenue, Woodland Park, CO 80866 | Mar. 26, 2015 | 080175
Teller (FEMA Docket No.: B-1464) | Unincorporated areas of Teller County, (14-08-0157P) | The Honorable Dave Paul, Chairman, Teller County Board of Commissioners, P.O. Box 959, Cripple Creek, CO 80813 | Teller County Office of Emergency Management, P.O. Box 959, Cripple Creek, CO 80813 | Mar. 26, 2015 | 080173
Florida:
Charlotte (FEMA Docket No.: B-1468) | Unincorporated areas of Charlotte County, (14-04-8892P) | The Honorable Ken Doherty, Chairman, Charlotte County Board of Commissioners, 18500 Murdock Circle, Suite 536, Port Charlotte, FL 33948 | Charlotte County Community Development Department, 18500 Murdock Circle, Port Charlotte, FL 33948 | Apr. 2, 2015 | 120061
Collier (FEMA Docket No.: B-1468) | Unincorporated areas of Collier County, (14-04-3496P) | The Honorable Tom Henning, Chairman, Collier County Board of Commissioners, 3299 Tamiami Trail East, Suite 303, Naples, FL 34112 | Collier County Planning and Zoning Department, 2800 North Horseshoe Drive, Naples, FL 34104 | Apr. 2, 2015 | 120067
Duval (FEMA Docket No.: B-1468) | City of Jacksonville, (14-04-8973P) | The Honorable Alvin Brown, Mayor, City of Jacksonville, 117 West Duval Street, Suite 400, Jacksonville, FL 32202 | Development Services Department, 214 Hogan Street North, Jacksonville, FL 32202 | Mar. 24, 2015 | 120077
Escambia (FEMA Docket No.: B-1464) | Unincorporated areas of Escambia County, (14-04-7298P) | The Honorable Lumon May, Chairman, Escambia County Board of Commissioners, 221 Palafox Place, Suite 400, Pensacola, FL 32502 | Escambia County Planning and Zoning Division, 3363 West Park Place, Pensacola, FL 32505 | Mar. 26, 2015 | 120080
Miami-Dade (FEMA Docket No.: B-1468) | City of Miami, (14-04-7292P) | The Honorable Tomas Regalado, Mayor, City of Miami, 3500 Pan American Drive, Miami, FL 33133 | Emergency Management Department, 444 Southwest 2nd Avenue, 10th Floor, Miami, FL 33130 | Apr. 2, 2015 | 120650
Manatee (FEMA Docket No.: B-1464) | Unincorporated areas of Manatee County, (14-04-7603P) | The Honorable Larry Bustle, Chairman, Manatee County, Board of Commissioners, P.O. Box 1000, Bradenton, FL 34205 | Manatee County Building and Development Services Department, 1112 Manatee Avenue West, Bradenton, FL 34205 | Mar. 26, 2015 | 120153
Sumter (FEMA Docket No.: B-1464) | Unincorporated areas of Sumter County, (14-04-3829P) | The Honorable Al Butler, Chairman, Sumter County Board of Commissioners, 7375 Powell Road, Wildwood, FL 34785 | Sumter County Community Development Department, 7375 Powell Road, Wildwood, FL 34785 | Mar. 13, 2015 | 120296
Montana:
Missoula (FEMA Docket No.: B-1464) | Unincorporated areas of Missoula County, (14-08-0395P) | The Honorable Jean Curtiss, Chair, Missoula County Board of Commissioners, 200 West Broadway, Missoula, MT 59802 | Missoula County Community and Planning Services Department, 323 West Alder, Missoula, MT 59802 | Mar. 13, 2015 | 300048
North Carolina:
Forsyth (FEMA Docket No.: B-1464) | Town of Kernersville, (14-04-6374P) | The Honorable Dawn H. Morgan, Mayor, Town of Kernersville, P.O. Box 728, Kernersville, NC 27284 | Town Hall, 134 East Mountain Street, Kernersville, NC 27284 | Mar. 16, 2015 | 370319
Gaston (FEMA Docket No.: B-1468) | City of Gastonia, (14-04-A889P) | The Honorable John Bridgeman, Mayor, City of Gastonia, P.O. Box 1748, Gastonia, NC 28053 | Garland Municipal Business Center, 150 South York Street, Gastonia, NC 28052 | Mar. 16, 2015 | 370100
Wake (FEMA Docket No.: B-1464) | Unincorporated areas of Wake County, (14-04-3226P) | Mr. Jim Hartmann, Manager, Wake County, P.O. Box 550, Raleigh, NC 27602 | Wake County Environmental Services Department, 336 Fayetteville Street, Raleigh, NC 27601 | Mar. 13, 2015 | 370368
South Carolina:
Charleston (FEMA Docket No.: B-1468) | City of Charleston, (14-04-9826P) | The Honorable Joseph P. Riley, Jr., Mayor, City of Charleston, P.O. Box 652, Charleston, SC 29402 | Engineering Department, 75 Calhoun Street, Division 301, Charleston, SC 29401 | Apr. 2, 2015 | 455412
Charleston (FEMA Docket No.: B-1468) | Town of Mount Pleasant, (14-04-9102P) | The Honorable Linda Page, Mayor, Town of Mount Pleasant, 100 Ann Edwards Lane, Mount Pleasant, SC 29464 | Planning Department, 100 Ann Edwards Lane, Mount Pleasant, SC 29464 | Mar. 23, 2015 | 455417
South Dakota:
Brown (FEMA Docket No.: B-1468) | City of Aberdeen, (14-08-1017P) | The Honorable Mike Levsen, Mayor, City of Aberdeen, 123 South Lincoln Street, Aberdeen, SD 57401 | City Engineer's Office, 123 South Lincoln Street, Aberdeen, SD 57401 | Mar. 26, 2015 | 460007
North Dakota:
Stark (FEMA Docket No.: B-1468) | Unincorporated areas of Stark County, (14-08-1100P) | The Honorable Russ Hoff, Chairman, Stark County Board of Commissioners, P.O. Box 130, Dickinson, ND 58602 | Stark County Recorder's Office, 51 3rd Street East, Dickinson, ND 58601 | Apr. 2, 2015 | 385369
Tennessee:
Wilson (FEMA Docket No.: B-1468) | City of Mt. Juliet, (14-04-5022P) | The Honorable Ed Hagerty, Mayor, City of Mt. Juliet, 2425 North Mt. Juliet Road, Mt. Juliet, TN 37122 | City Hall, 2425 North Mt. Juliet Road, Mt. Juliet, TN 37122 | Mar. 19, 2015 | 470290
Utah:
Davis (FEMA Docket No.: B-1468) | City of Kaysville, (14-08-0801P) | The Honorable Steve A. Hiatt, Mayor, City of Kaysville, 23 East Center Street, Kaysville, UT 84037 | City Hall, 23 East Center Street, Kaysville, UT 84037 | Mar. 26, 2015 | 490046
Salt Lake (FEMA Docket No.: B-1468) | City of West Jordan, (14-08-0959P) | The Honorable Kim V. Rolfe, Mayor, City of West Jordan, 8000 South Redwood Road, West Jordan, UT 84088 | City Hall, 8000 South Redwood Road, West Jordan, UT 84088 | Apr. 2, 2015 | 490108
Washington (FEMA Docket No.: B-1468) | City of St. George, (14-08-1007P) | The Honorable Jon Pike, Mayor, City of St. George, 175 East 200 North, St. George, UT 84770 | Engineering Department, 175 East 200 North, St. George, UT 84770 | Feb. 19, 2015 | 490177

[FR Doc. 2015-12911 Filed 5-27-15; 8:45 am]

BILLING CODE 9110-12-P